DEPARTMENT OF ENERGY

Federal Energy Regulatory Commission

[Docket No. RP00-329-005]

Great Lakes Gas Transmission Limited Partnership; Notice of Compliance Filing

November 28, 2003.

Take notice that on November 24, 2003, Great Lakes Gas Transmission Limited Partnership (Great Lakes) tendered for filing as part of its FERC Gas Tariff, Second Revised Volume No. 1, the following tariff sheets, proposed to be effective June 1, 2003:

Second Substitute Eighth Revised Sheet No. 10

Third Substitute Fourth Revised Sheet No. 39A

1st Rev Sixth Revised Sheet No. 42

Substitute Eighth Revised Sheet No. 42A

Second Substitute Third Revised Sheet No. 50A

Substitute Second Revised Sheet No. 50Q

Great Lakes states that these tariff sheets are being filed in compliance with the Commission's October 27, 2003 Order on Compliance Filing relative to Order Nos. 637, 587-G, and 587-L in Docket No. RP00-329-004 (October 27 Order), wherein the Commission accepted Great Lakes' proposed revisions, with some modifications. Great Lakes was directed to file revised tariff sheets within thirty (30) days of the October 27 Order consistent with the modifications set forth in that Order. Great Lakes states that the tariff sheets included in this compliance tariff filing reflect those required modifications.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E3-00453 Filed 12-3-03; 8:45 am]

BILLING CODE 6717-01-P